DEPARTMENT OF HEALTH AND HUMAN SERVICES

Health Resources and Services Administration

Ryan White HIV/AIDS Program Part C HIV Early Intervention Services Program Existing Geographic Service Area

AGENCY: Health Resources and Services Administration, HHS.

ACTION: Notice.

SUMMARY: The HIV/AIDS Bureau (HAB) is requesting a class deviation from the competition requirements in order to provide a one-year extension with funds to nineteen Part C HIV Early Intervention Services Program Existing Geographic Service Area (EISEGA) grantees. HAB is currently evaluating the EISEGA program and intends to recompete the entire program in fiscal year (FY) 2017. Nineteen of the 347 Part C grantees were scheduled to recompete in FY 2016. One-year extensions with funds enables HAB to align all cohorts of EISEGA grantees without disrupting the provision of critical HIV primary medical care services to the current Ryan White HIV/AIDS Program (RWHAP) clients served by these nineteen RWHAP Part C recipients. Pending the availability of funds, the amount of each FY 2016 award will be based on a proportion of the current Part C EISEGA award to each of the nineteen recipients, respectively.

FOR FURTHER INFORMATION CONTACT: Chrissy Abrahms Woodland, Acting Director, Division of Community HIV/AIDS Programs, HRSA/HAB/DCHAP, 5600 Fishers Lane, Room 9-74, Rockville, MD 20857, email: cabrahms@hrsa.gov.

SUPPLEMENTARY INFORMATION: Period of Performance: April 1, 2016, to March 31, 2017.

Intended Recipients of the Award: Borinquen Health Care Center, CareSouth-Carolina, Community Health Center Incorporated, Community Health Net, County of Ventura, Hamilton Health Center, Inc., Howard University Inc., Med Star Health Research Institute, and Northwest Health Services, Inc.

Period of Performance: May 1, 2016, to April 30, 2017.

Aaron E. Henry Community Health Services Center, Inc., Carepoint Health Foundation, Centra Health, Inc., Detroit Community Health Connection, Family Health Center of Worcester, Harbor Health Services, Inc., Mount Sinai Hospital, T.H.E. Clinic, UPMC Presbyterian Shadyside, and Vanderbilt University.

Aggregate amount of Non-Competitive Awards: $8,097,427.

CFDA Number: 93.918

Authority: Sections 2651-2667 of the Public Health Service Act (42 U.S.C. 300ff-51-67) and section 2693 of the Public Health Service Act, as amended by the Ryan White HIV/AIDS Treatment Extension Act of 2009 (Pub. L. 111-87).

Justification: The purpose of the RWHAP Part C EISEGA Program is to provide HIV primary care in the outpatient setting. Grantees provide a comprehensive continuum of outpatient HIV primary care services in the designated service area including: (1) Targeted HIV counseling, testing, and referral; (2) medical evaluation and clinical care; (3) other primary care services; and (4) referrals to other health services. Identifying people infected with HIV and linking them to HIV primary care with initiation and long-term maintenance of life-saving antiretroviral treatment (ART) are important public health steps toward the elimination of HIV in the United States. The continuum of interventions that begins with outreach and testing and concludes with HIV viral load suppression is generally referred to as the HIV Care Continuum or the Care Treatment Cascade. The HIV Care Continuum includes the diagnosis of HIV, linkage to HIV medical care, lifelong retention in HIV medical care, appropriate prescription of ART, and ultimately HIV viral load suppression.

Dated: September 15, 2015.
James Macrae,
Acting Administrator.

[FR Doc. 2015-24171 Filed 9-22-15; 8:45 am]

BILLING CODE 4165-15-P